DEPARTMENT OF ENERGY

Federal Energy Regulatory Commission

[Project No. 2413-124]

Georgia Power Company Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2413-124.

c. Date filed: May 31, 2018.

d. Applicant: Georgia Power Company (Georgia Power).

e. Name of Project: Wallace Dam Pumped Storage Project (Wallace Dam Project).

f. Location: The existing project is located on the Oconee River, in Hancock, Putnam, Green, and Morgan Counties, Georgia. The project occupies about 493.7 acres of federal land administered by the U.S. Forest Service.

g. Filed Pursuant to: Federal Power Act, 16 U.S.C. 791 (a)-825(r).

h. Applicant Contact: Courtenay R. O'Mara, P.E., Wallace Dam Hydro Relicensing Manager, Southern Company Generation, BIN 10193, 241 Ralph McGill Blvd. NE, Atlanta, GA 30308-3374; (404) 506-7219; cromara@southernco.com.

i. FERC Contact: Allan Creamer at (202) 502-8365, or at allan.creamer@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2413-124.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Wallace Dam Project consists of: (1) A 2,395-foot-long, 120-foot-high dam, consisting of (i) a 347-foot-long west earth embankment, (ii) a 300-foot-long west concrete non-overflow section, (iii) a 266-foot-long concrete spillway with five Tainter gates, each 48 feet high by 42 feet wide with a total discharge capacity of 35,000 cubic feet per second (cfs), (iv) a 531.4-foot-long powerhouse intake section, protected by trashracks having a clear bar spacing of 9.5 to 10.5 inches and leading to six penstocks with a maximum diameter of 25.5 feet, (v) a 226-foot-long east concrete non-overflow section, (vi) a 725-foot-long east earth embankment, and (vii) two saddle dikes, located east of the dam, totaling about 900 feet in length; (2) an 18,188-acre reservoir (Lake Oconee) at an elevation of 435.0 feet Plant Datum (where Plant Datum equals mean sea level (NAVD88) minus 0.20 feet); (3) a powerhouse integral with the dam that contains six turbine/generator units (two conventional generating units and four reversible pump units, with a total installed capacity of 321.3 megawatts; (4) a 20,000-foot-long tailrace that flows into Lake Sinclair, which serves as the lower reservoir for the Wallace Dam Project; (5) transmission facilities that consist of (i) 13.8-kilovolt (kV) generator leads, (ii) two 13.8/230-kV step-up transformers, (iii) a 230-kV substation, and (iv) a 15.67-mile-long transmission line that extends from Wallace Dam west to a switching station near Eatonton, Georgia; and (6) appurtenant facilities.

The Wallace Dam Project is a pumped storage project, generating 390,083 megawatt-hours of electricity annually. Water for generation at Wallace Dam comes from inflow, plus storage in Lake Oconee. The project generates during peak power demand hours to meet the electrical system demand. Water that is not used for generation at the downstream Sinclair Project FERC No. 1951, remains in Lake Sinclair for a few hours before being pumped back into Lake Oconee. Pumpback operation occurs at night, when electrical system demand is low (off-peak hours). For normal day-to-day operation, Lake Oconee fluctuates between elevations 435.0 and 433.5 feet Plant Datum, resulting in an average daily fluctuation of 1.5 feet. The Wallace Dam Project discharges directly into Lake Sinclair, with no intervening riverine or bypassed reach flows. Generation typically is the highest during the summer months, where Wallace Dam generates for about 7 to 8 hours during the afternoon peak demand period. During the fall and winter months, generation typically lasts 5 to 6 hours.

During drought periods, the Wallace Dam Project supports the minimum flow requirements of the downstream Sinclair Project. When the Sinclair Project's calculated inflow drops below its minimum flow requirement of 250 cfs, water is released from Lake Oconee to maintain the elevation of Lake Sinclair at the minimum level necessary for safe pumpback operation at Wallace Dam, which is 338.2 feet Plant Datum.

m. A copy of the application is available for review at the Commission in the Public Reference Room, or may be viewed on the Commission's website at http://www.ferc.gov, using the eLibrary link. Enter the docket number, excluding the last three digits in the docket number field, to access the document. For assistance, contact FERC Online Support. A copy is also available for inspection and reproduction at the address in item h above.

You may register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests or other comments filed, but only those who file a motion to intervene in accordance with the Commission's Rules may become a party to the proceeding. Any comments, protests, or motions to intervene must be received on, or before, the specified deadline date for the particular application.

All filings must: (1) Bear in all capital letters the title PROTEST, MOTION TO INTERVENE, COMMENTS, REPLY COMMENTS, RECOMMENDATIONS, PRELIMINARY TERMS AND CONDITIONS, OR PRELIMINARY FISHWAY PRESCRIPTIONS; (2) set forth in the heading the name of the applicant and the project number of the application to which the filing responds; (3) furnish the name, address, and telephone number of the person protesting or intervening; and (4) otherwise comply with the requirements of 18 CFR 385.2001 through 385.2005. All comments, recommendations, preliminary terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural schedule: The application will be processed according to the following revised Hydro Licensing Schedule. Further revisions to the schedule will be made as appropriate.

Milestone | Target date
Filing comments, recommendations, preliminary terms and conditions, and preliminary fishway prescriptions | April 2019.
Commission issues EA | October 2019.
Comments on EA | November 2019.
Filing modified terms and conditions | January 2020.

p. Final amendments to the application must be filed with the Commission no later than 30 days from the issuance date of this notice.

q. A license applicant must file, no later than 60 days following the date of issuance of the notice of acceptance and ready for environmental analysis provided for in 5.22: (1) A copy of the water quality certification; (2) a copy of the request for certification, including proof of the date on which the certifying agency received the request; or (3) evidence of waiver of water quality certification.

Dated: February 22, 2019.
Kimberly D. Bose,
Secretary.

[FR Doc. 2019-03763 Filed 3-1-19; 8:45 am]

BILLING CODE 6717-01-P